FEDERAL COMMUNICATIONS COMMISSION

Public Information Collections Approved by Office of Management and Budget

October 3, 2000.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0723.

Expiration Date: 09/30/2003.

Title: Public Disclosure of Network Information by Bell Operating Companies.

Form No.: N/A.

Respondents: Business or other for-profit.

Estimated Annual Burden: 7 respondents; 50 hours per response (avg.); 350 total annual burden hours.

Estimated Annual Reporting and Recordkeeping Cost Burden: $0.

Frequency of Response: On occasion; third party disclosure.

Description: Public Disclosure of Network Information by Bell Operating Companies (BOCs). Pursuant to Section 276(b)(1)(C) which directs the Commission to “prescribe a set of nonstructural safeguards for Bell operating company payphone service to implement the provisions of paragraphs (1) and (2) of subsection (a), which safeguards shall, at a minimum, include the nonstructural safeguards equal to those adopted in the Computer Inquiry—III (CC Docket No. 90-623) proceeding”, 47 U.S.C. Section 276 (B)(a)(C), the BOCs are required to publicly disclose changes in their networks or new network services at two different points in time. First, disclosure would occur at the make/buy point: when a BOC decides to make for itself, or procure from an unaffiliated entity, any product whose design affects or relies on the network interface. Second, a BOC would publicly disclose technical information about a new service 12 months before it is introduced. If the BOC could introduce the service within 12 months of the make/buy point, it would make a public disclosure at the make/buy point. In no event, however, would the public disclosure occur less than six months before the introduction of the service. Without provision of these reports, the industry would be unable to ascertain whether the BOCs designing new network services or changing network technical specifications are to the advantage of their own payphones, or might disadvantage BOC payphone competitors. The information required by the Public Disclosure of Network Information by BOCs must be provided to third parties. All of the requirements would be used to ensure that BOCs comply with their obligations under the Telecommunications Act of 1996. Obligation to respond: Mandatory.

OMB Control No.: 3060-0787.

Expiration Date: 04/30/2001.

Title: Implementation of the Subscriber Carrier Selection Changes Provisions of the Telecommunications Act of 1996; Policies and Rules Concerning Unauthorized Changes of Consumers Long Distance.

Form No.: N/A.

Respondents: Business or other for-profit.

Estimated Annual Burden: 28,676 respondents; 3.83 hours per response (avg.); 109,876 total annual burden hours.

Estimated Annual Reporting and Recordkeeping Cost Burden: $0.

Frequency of Response: On occasion; Third Party Disclosure; Recordkeeping.

Description: Section 258 of the Communications Act of 1934 (Act), as amended by the Telecommunications Act of 1996, makes it unlawful for any telecommunications carrier to “submit or execute a change in a subscriber's selection of a provider of telecommunications exchange service or telephone toll service except in accordance with such verification procedures as the Commission shall prescribe.” The Section further provides that any telecommunications carrier that violates such verification procedures and that collects charges for telephone exchange service or telephone toll service from a subscriber, shall be liable to the carrier previously selected by the subscriber in an amount equal to all charges paid by the subscriber after such violation. In the Second Report and Order and Further Notice of Proposed Rulemaking (Section 258 Order) issued in CC Docket No. 94-129, the Commission adopted rules to implement Section 258 of the Communications Act of 1934 (Act), as amended by the Telecommunications Act of 1996 (1996 Act). The goal of Section 258 is to eliminate the practice of “slamming,” which is the unauthorized change of a subscriber's preferred carrier. In the Section 258 Order, the Commission adopted various rules addressing verification of preferred carrier changes and preferred carrier freezes. The Commission also adopted liability rules designed to take the profit out of slamming. In the First Order on Reconsideration (Order), released May 3, 2000, the Commission amends certain of its liability rules by requiring slamming disputes between consumers and carriers to be brought before appropriate state commissions, or this Commission in cases where the state has not opted to administer our rules, rather than to authorized carriers. The Order also modifies the liability rules that apply when a consumer has paid charges to a slamming carrier. Finally, the Order sets forth certain notification requirements to facilitate carriers' compliance with the liability rules. a. Section 64.1110, State Notification of Election to Administer FCC Rules. Pursuant to Section 64.1110(a), state notification of an intention to administer the Federal Communication Commission's unauthorized carrier change rules and remedies shall be filed with the Commission Secretary in CC Docket No. 94-129 with a copy of such notification provided to the Consumer Information Bureau Chief. Such notification shall contain, at a minimum, information on where consumers should file complaints, the type of documentation, if any, that must accompany a complaint, and the procedures the state will use to adjudicate complaints. Pursuant to Section 64.1110(b), state notification of an intention to discontinue administering the Federal Communication Commission's unauthorized carrier change rules and remedies shall be filed with the Commission Secretary in CC Docket No. 94-129 with a copy of such amended notification provided to the Consumer Information Bureau Chief. Such discontinuance shall become effective 60 days after the Commission's receipt of the state's letter. (No. of respondents: 51; hours per response: 2 hours; total annual burden: 102 hours). b. Section 64.1120, Verification of Orders for Telecommunications Carriers. A carrier must retain verification records for two years after their creation. Pursuant to Section 64.1120 no telecommunications carrier shall submit a preferred carrier charge order unless and until the order has first been confirmed. Telecommunications carriers may obtain the subscriber's written authorization as required by section 64.1130 or an electronic authorization, or an oral authorization through a qualified independent third party. (Number of respondents: 1800; hours per response: 1.5 hours; total annual burden: 2700 hours). c. Section 64.1130, Letter of Agency Form and Content. Section 64.1130 contains the requirements for issuing a letter of agency to obtain written authorization and/or verification of a subscribers' request to change his/her preferred carrier selection. A carrier marketing multiple services must specifically distinguish among such services in any letter of agency, and must obtain separate authorization for each service that is being changed. (No. of respondents; 1800; hours per response: 1.5 hours; total annual burden: 2700 hours). d. Section 64.1140, Carrier Liability for Slamming. Pursuant to Section 64.1140(a), any submitting telecommunications carrier that fails to comply with the procedures prescribed in this part shall be liable to the subscriber's properly authorized carrier in an amount equal to 150% of all charges paid to the submitting telecommunications carrier by such subscriber after such violation, as well as for additional amounts as prescribed in § 64.1170 of Part 64. Pursuant to Section 64.1140(b), any subscriber whose selection of telecommunications service provider is changed without authorization or verification in accordance with the procedures set for 47 CFR 64.1140 will be liable for charges. (No. of respondents: 1910; hours per response: 2 hours; total annual burden: 3820 hours). e. Section 64.1150, Procedures For Resolution of Unauthorized Changes in Preferred Carrier—Pursuant to Section 64.1150(a), executing carriers who are informed of an unauthorized carrier change by a subscriber must immediately notify both the authorized and allegedly unauthorized carrier of the incident. This notification must include the identity of both carriers. Pursuant to Section 64.1150(b), any carrier, executing, authorized, or allegedly unauthorized, that is informed by a subscriber or an executing carrier of an unauthorized carrier change shall direct that subscriber either to the state commission or, where the state commission has not opted to administer these rules, to the Federal Communications Commission's Consumer Information Bureau, for resolution of the complaint. Pursuant to Section 64.1150(c), upon receipt of an unauthorized carrier change complaint, the relevant governmental agency will notify the allegedly unauthorized carrier of the complaint and order that the carrier removes all unpaid charges from the subscriber's bill pending a determination of whether an unauthorized change, as defined by § 64.1100(e) of this part, has occurred, if it has not already done so. Pursuant to Section 64.1150(d), not more than 30 days after notification of the complaint, or such lesser time as is required by the state commission if a matter is brought before a state commission, the alleged unauthorized carrier shall provide to the relevant government agency a copy of any valid proof of verification of the carrier change. Failure by the carrier to respond or provide proof of verification will be presumed to be clear and convincing evidence of a violation. Pursuant to Section 64.1150(e), the Federal Communications Commission will not adjudicate a complaint filed pursuant to § 1.719 or §§ 1.720-736, involving an alleged unauthorized change, as defined by § 64.1100(e) of this part, while a complaint based on the same set of facts is pending with a state commission. (No. of respondents: 1960; hours per response: 8 hours; total annual hours: 9800 hours). f. Section 64.1160, Absolution Procedures Where the Subscriber Has Not Paid—Pursuant to Section 64.1160(a), this section shall only apply after a subscriber has determined that an unauthorized change, as defined by § 64.1100(e) of this part, has occurred and the subscriber has not paid charges to the allegedly unauthorized carrier for service provided for 30 days, or a portion thereof, after the unauthorized change occurred. Pursuant to Section 64.1160(b), an allegedly unauthorized carrier shall remove all charges incurred for service provided during the first 30 days after the alleged unauthorized change occurred, as defined by § 64.1100(e) of this part, from a subscriber's bill upon notification that such unauthorized change is alleged to have occurred. Pursuant to Section 64.1160(c), an allegedly unauthorized carrier may challenge a subscriber's allegation that an unauthorized change, as defined by § 64.1100(e) of this part, occurred. An allegedly unauthorized carrier choosing to challenge such allegation shall immediately notify the complaining subscriber that: (1) The complaining subscriber must file a complaint with a state commission that has opted to administer the FCC's rules, pursuant to § 64.1110 of this part, or the FCC within 30 days of either (i) the date of removal of charges from the complaining subscriber's bill in accordance with paragraph (b) of this section or (ii) the date the allegedly unauthorized carrier notifies the complaining subscriber of the requirements of this paragraph, whichever is later; and (2) a failure to file such a complaint within this 30-day time period will result in the charges removed being reinstated on the subscriber's bill and, consequently, the complaining subscribers will only be entitled to remedies for the alleged unauthorized change other than those provided for in § 64.1140(b)(1) of this part. No allegedly unauthorized carrier shall reinstate charges to a subscriber's bill pursuant to the provisions of this paragraph without first providing such subscriber with a reasonable opportunity to demonstrate that the requisite complaint was timely filed within the 30-day period described in this paragraph. Pursuant to Section 64.1160(d), if the relevant governmental agency determines after reasonable investigation that an unauthorized change, as defined by § 64.1100(e) of this part, has occurred, an order shall be issued providing that the subscriber is entitled to absolution from the charges incurred during the first 30 days after the unauthorized carrier change occurred, and neither the authorized or unauthorized carrier may pursue any collection against the subscriber for those charges. Pursuant to Section 64.1160(e), if the subscriber has incurred charges for more than 30 days after the unauthorized carrier change, the unauthorized carrier must forward the billing information for such services to the authorized carrier. Pursuant to Section 64.1160(f), if the unauthorized carrier received payment from the subscriber for services provided after the first 30 days after the unauthorized change occurred, the obligations for payments and refunds provided for in § 64.1160 of this part shall apply to those payments. Pursuant to Section 64.1160(g), if the relevant governmental agency determines after reasonable investigation that the carrier change was authorized, the carrier may re-bill the subscriber for charges incurred. (No. of respondents: 1960; hours per response: 8 hours; total annual burden: 15,680). g. Section 64.1170, Reimbursement Procedures Where the Subscriber Has Paid—Pursuant to Section 64.1170(a), the procedures set forth in Section 64.1170 shall apply only after a subscriber has determined that an unauthorized change, as defined by Section 64.1100(e) of our rules, has occurred and the subscriber has paid charges to an allegedly unauthorized carrier. Pursuant to Section 64.1170(b), if the relevant governmental agency determines after reasonable investigation that an unauthorized change, as defined by § 64.1100(e) of this part, has occurred, it shall issue an order directing the unauthorized carrier to forward to the authorized carrier the following, in addition to any appropriate state remedies, an amount equal to 150% of all charges paid by the subscriber to the unauthorized carrier; and copies of any telephone bills issued from the unauthorized carrier to the subscriber. Pursuant to Section 64.1170(c), within ten days of receipt of the amount provided for in paragraph (b)(1) of this section, the authorized carrier shall provide a refund or credit to the subscriber in the amount of 50% of all charges paid by the subscriber to the unauthorized carrier. The subscriber has the option of asking the authorized carrier to re-rate the unauthorized carrier's charges based on the rates of the authorized carrier and, on behalf of the subscriber, seek an additional refund from the unauthorized carrier, to the extent that the re-rated amount exceeds the 50% of all charges paid by the subscriber to the unauthorized carrier. The authorized carrier shall also send notice to the relevant governmental agency that it has given a refund or credit to the subscriber. Pursuant to Section 64.1170(d), if an authorized carrier incurs billing and collection expenses in collecting charges from the unauthorized carrier, the unauthorized carrier shall reimburse the authorized carrier for reasonable expenses. Pursuant to Section 64.1170(e), if the authorized carrier has not received payment from the unauthorized carrier as required by paragraph (c) of this section, the authorized carrier is not required to provide any refund or credit to the subscriber. The authorized carrier must, within 45 days of receiving an order as described in paragraph (b) of this section, inform the subscriber and the relevant governmental agency that issued the order if the unauthorized carrier has failed to forward to it the appropriate charges, and also inform the subscriber of his or her right to pursue a claim against the unauthorized carrier for a refund of all charges paid to the unauthorized carrier. Pursuant to Section 64.1170(f), where possible, the properly authorized carrier must reinstate the subscriber in any premium program in which that subscriber was enrolled prior to the unauthorized change, if the subscriber's participation in that program was terminated because of the unauthorized change. If the subscriber has paid charges to the unauthorized carrier, the properly authorized carrier shall also provide or restore to the subscriber any premiums to which the subscriber would have been entitled had the unauthorized change not occurred. The authorized carrier must comply with the requirements of this section regardless of whether it is able to recover from the unauthorized carrier any charges that were paid by the subscriber. (No. of respondents: 1960; hours per response: 7 hours; total annual burden: 13,720 hours). h. Section 64.1190, Preferred Carrier Freezes. Section 64.1190 requires that all local exchange carriers that impose preferred carrier freezes on their subscribers' accounts must verify such freezes, as well as accept subscriber requests to lift such freezes in writing or by three-way calls. (No. of respondents: 1800; hours per response: 2 hours; total annual burden: 3600 hours). i. Section 1.719, Informal Complaints Filed Pursuant to Section 258—Section 1.719 applies to complaints alleging that a carrier has violated Section 258 of the Communications Act of 1934, as amended by the Telecommunications Act of 1996, by making an unauthorized change of a subscriber's preferred carrier, as defined by § 64.1100(e). Pursuant to Section 1.719(b), the complaint shall be in writing, and should contain: (1) The complainant's name, address, telephone number and e-mail address (if the complainant has one); (2) the name of both the allegedly unauthorized carrier, as defined by § 64.1100(d), and authorized carrier, as defined by § 64.1100(c); (3) a complete statement of the facts (including any documentation) tending to show that such carrier engaged in an unauthorized change of the subscriber's preferred carrier; (4) a statement of whether the complainant has paid any disputed charges to the allegedly unauthorized carrier; and (5) the specific relief sought. If the complainant is unsatisfied with the resolution of a complaint under this section, the complainant may file a formal complaint with the Commission in the form specified in § 1.721 of this part. (No. of respondents: 13,200; hours per response: 4 hours; total annual burden: 52,800 hours). j. Voluntary Reporting Requirement. States that choose to administer the Commission's slamming rules must regularly file information with the Commission that details slamming activity in their regions. Such filings should identify the number of slamming complaints handled, including data on the number of valid complaints per carrier; the identity of top slamming carriers; slamming trends; and other relevant information. See paragraph 34 of the Order. (Number of respondents: 51; hours per response: 10 hours; total annual burden: 510 hours). The information from these collections will be used to implement Section 258 of the Act. The information will strengthen the ability of our rules to deter slamming, while addressing concerns raised with respect to our previous administrative procedures. The information will also enable us to give victims of slamming adequate redress and ensure that carriers that slam do not profit from their fraud. Finally, the information will help to protect consumers from carriers who may attempt to take advantage of consumer confusion over different types of telecommunications services. Obligation to respond: Required to obtain or retain benefits.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 00-26194 Filed 10-11-00; 8:45 am]

BILLING CODE 6712-01-P